DEPARTMENT OF ENERGY

Federal Energy Regulatory Commission

Combined Notice of Filings #1

Take notice that the Commission received the following exempt wholesale generator filings:

Docket Numbers: EG18-122-000.

Applicants: Green River Wind Farm Phase 1, LLC.

Description: Notice of Self-Certification of Exempt Wholesale Generator Status for Green River Wind Farm Phase 1, LLC.

Filed Date: 8/17/18.

Accession Number: 20180817-5034.

Comments Due: 5 p.m. ET 9/7/18.

Take notice that the Commission received the following electric rate filings:

Docket Numbers: ER18-2231-000.

Applicants: Duke Energy Carolinas, LLC.

Description: § 205(d) Rate Filing: DEC Revised Depreciation Rates to be effective 8/1/2018.

Filed Date: 8/16/18.

Accession Number: 20180816-5123.

Comments Due: 5 p.m. ET 9/6/18.

Docket Numbers: ER18-2232-000.

Applicants: PJM Interconnection, L.L.C.

Description: § 205(d) Rate Filing: Revisions to OA Sections RE Confidentiality of Data and Information to be effective 10/15/2018.

Filed Date: 8/16/18.

Accession Number: 20180816-5136.

Comments Due: 5 p.m. ET 9/6/18.

Docket Numbers: ER18-2233-000.

Applicants: Ohio Power Company, AEP Ohio Transmission Company, Inc., PJM Interconnection, L.L.C.

Description: § 205(d) Rate Filing: AEP Ohio et al. submits ILDSA, Service Agreement No. 1336 btwn AEPSC and Buckeye to be effective 7/17/2018.

Filed Date: 8/17/18.

Accession Number: 20180817-5020.

Comments Due: 5 p.m. ET 9/7/18.

Docket Numbers: ER18-2234-000.

Applicants: Public Service Company of Colorado.

Description: § 205(d) Rate Filing: 2018-08-17 Spring Canyon, Tri-State IA-440-0.0.0-Filing to be effective 10/17/2018.

Filed Date: 8/17/18.

Accession Number: 20180817-5023.

Comments Due: 5 p.m. ET 9/7/18.

Docket Numbers: ER18-2236-000.

Applicants: Parrey, LLC.

Description: § 205(d) Rate Filing: Amended and Restated Henrietta Shared Facilities Agreement No. 1 Filing to be effective 8/17/2018.

Filed Date: 8/17/18.

Accession Number: 20180817-5043.

Comments Due: 5 p.m. ET 9/7/18.

Docket Numbers: ER18-2237-000.

Applicants: PJM Interconnection, L.L.C.

Description: § 205(d) Rate Filing: Amendment to ISA, SA No. 2826, Queue No. None (Consent) to be effective 6/1/2011.

Filed Date: 8/17/18.

Accession Number: 20180817-5044.

Comments Due: 5 p.m. ET 9/7/18.

Docket Numbers: ER18-2238-000.

Applicants: Midcontinent Independent System Operator, Inc.

Description: § 205(d) Rate Filing: 2018-08-17_SA 3154 ATC-ACEC Project Commitment Agreement (Hancock) to be effective 10/17/2018.

Filed Date: 8/17/18.

Accession Number: 20180817-5050.

Comments Due: 5 p.m. ET 9/7/18.

Docket Numbers: ER18-2239-000.

Applicants: Midcontinent Independent System Operator, Inc.

Description: § 205(d) Rate Filing: 2018-08-17_SA 3155 ATC-ACEC Project Commitment Agreement (Springwater) to be effective 10/17/2018.

Filed Date: 8/17/18.

Accession Number: 20180817-5052.

Comments Due: 5 p.m. ET 9/7/18.

Docket Numbers: ER18-2240-000.

Applicants: Yavi Energy, LLC.

Description: Baseline eTariff Filing: MBR Application to be effective 10/1/2018.

Filed Date: 8/17/18.

Accession Number: 20180817-5073.

Comments Due: 5 p.m. ET 9/7/18.

Docket Numbers: ER18-2241-000.

Applicants: Garnet Wind, LLC.

Description: Baseline eTariff Filing: MBR Application to be effective 10/1/2018.

Filed Date: 8/17/18.

Accession Number: 20180817-5080.

Comments Due: 5 p.m. ET 9/7/18.

Docket Numbers: ER18-2242-000.

Applicants: California Independent System Operator Corporation.

Description: § 205(d) Rate Filing: 2018-08-17 Energy Storage and Distributed Energy Resource Phase 2 Amendment to be effective 11/1/2018.

Filed Date: 8/17/18.

Accession Number: 20180817-5085.

Comments Due: 5 p.m. ET 9/7/18.

Docket Numbers: ER18-2243-000.

Applicants: Southwest Power Pool, Inc.

Description: § 205(d) Rate Filing: Morgan Transformer Project Cost Allocation (Part 1) to be effective 10/16/2018.

Filed Date: 8/17/18.

Accession Number: 20180817-5141.

Comments Due: 5 p.m. ET 9/7/18.

Docket Numbers: ER18-2244-000.

Applicants: Arizona Public Service Company.

Description: § 205(d) Rate Filing: Rate Schedule No. 217, Exhibit B Revisions to be effective 10/17/2018.

Filed Date: 8/17/18.

Accession Number: 20180817-5142.

Comments Due: 5 p.m. ET 9/7/18.

Docket Numbers: ER18-2245-000.

Applicants: Southwest Power Pool, Inc.

Description: § 205(d) Rate Filing: Morgan Transformer Project Cost Allocation (Part 2) to be effective 10/16/2018.

Filed Date: 8/17/18.

Accession Number: 20180817-5143.

Comments Due: 5 p.m. ET 9/7/18.

Take notice that the Commission received the following electric securities filings:

Docket Numbers: ES18-56-000.

Applicants: GridLiance High Plains LLC.

Description: Application for Authorization under Section 204 of the Federal Power Act of GridLiance High Plains LLC.

Filed Date: 8/16/18.

Accession Number: 20180816-5159.

Comments Due: 5 p.m. ET 9/6/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 17, 2018.
Nathaniel J. Davis, Sr.,
Deputy Secretary.

[FR Doc. 2018-18420 Filed 8-24-18; 8:45 am]

BILLING CODE 6717-01-P